DEPARTMENT OF ENERGY

[OE Docket No. EA-182-C]

Application To Export Electric Energy; H.Q. Energy Services (U.S.) Inc.

AGENCY: Office of Electricity Delivery and Energy Reliability, DOE.

ACTION: Notice of application.

SUMMARY: H.Q. Energy Services (U.S.) Inc. (HQUS) has applied to renew its authority to transmit electric energy from the United States to Canada pursuant to section 202(e) of the Federal Power Act (FPA).

DATES: Comments, protests, or requests to intervene must be submitted on or before July 14, 2010.

ADDRESSES: Comments, protests or requests to intervene should be addressed as follows: Office of Electricity Delivery and Energy Reliability, Mail Code: OE-20, U.S. Department of Energy, 1000 Independence Avenue, SW., Washington, DC 20585-0350 (fax 202-586-8008).

FOR FURTHER INFORMATION CONTACT: Christopher Lawrence (Program Office) 202-586-5260 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On August 21, 1998, the Department of Energy (DOE) issued Order No. EA-182, which authorized HQUS to transmit electric energy from the United States to Canada as a power marketer using existing international transmission facilities for a five-year term. DOE renewed the HQUS export authorization on August 21, 2000, in Order No. EA-182-A and again on August 19, 2005, in Order No. EA-182-B. That Order will expire on August 21, 2010. On May 13, 2010, HQUS filed an application with DOE for renewal of the export authority contained in Order No. EA-182-B for an additional five-year term.

The electric energy that HQUS proposes to export to Canada would be surplus energy purchased from electric utilities, Federal power marketing agencies and other entities within the United States. The existing international transmission facilities to be utilized by HQUS have previously been authorized by Presidential permits issued pursuant to Executive Order 10485, as amended, and are appropriate for open access transmission by third parties.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the HQUS application to export electric energy to Canada should be clearly marked with Docket No. EA-182-C. Additional copies are to be filed directly with Helene Cossette, Hydro-Quebec Production, 75, boulevard Rene-Levesque West, 17th Floor, Montreal Canada H2Z 1A4 and Jerry L. Pfeffer, Skaden, Arps, Slate, Meagher & Flom LLP, 1440 New York Avenue, NW., Washington, DC 20005. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by emailing Odessa Hopkins at Odessa.Hopkins@hq.doe.gov.

Issued in Washington, DC, on June 8, 2010.
Anthony J. Como,
Director, Permitting and Siting, Office of Electricity Delivery and Energy Reliability.

[FR Doc. 2010-14198 Filed 6-11-10; 8:45 am]

BILLING CODE 6450-01-P